FEDERAL COMMUNICATIONS COMMISSION

47 CFR Part 95

[ET Docket No. 08-59; FCC 12-54]

Medical Body Area Networks

AGENCY: Federal Communications Commission.

ACTION: Final rule; announcement of effective date.

SUMMARY: In this document, the Federal Communications Commission (“Commission”) announces that certain rules revised in the “Amendment of the Commission's Rules to Provide Spectrum for the Operation of Medical Body Area Networks” adopted in a First Report and Order, ET Docket No. 08-59 (FCC 12-54), to the extent it contained information collection requirements that required approval by the Office of Management and Budget (OMB) was approved on October 26, 2013. This document is consistent with the First Report and Order, which stated that the Commission would publish a document in the Federal Register announcing the effective date of those rules.

DATES: The amendments to 47 CFR 95.1215(c), 95.1217(a)(3), 95.1223 and 95.1225 published at 78 FR 55715, September 11, 2012 are effective December 27, 2013. In addition the incorporation by reference listed in 47 CFR 95.1223 of the rules is approved by the Director of the Federal Register as of December 27, 2013.

FOR FURTHER INFORMATION CONTACT: Nancy Brooks, Policy and Rules Division, Office of Engineering and Technology, at (202) 418-7866, or email: Nancy.Brooks@fcc.gov.

SUPPLEMENTARY INFORMATION: This document announces that, on November 26, 2013 OMB approved, for a period of three years, the revised information collection requirements relating to Spectrum for the Operation of Medical Body Area Networks rules contained in the Commission's First Report and Order, FCC 12-54, published at 78 FR 55715, September 11, 2012. The OMB Control Number is 3060-0936. The Commission publishes this document as an announcement of the effective date of the rules.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received final OMB approval on November 26, 2013, for the information collection requirements contained in the modifications to the Commission's rules in 47 CFR part 95.

Under 5 CFR 1320, an agency may not conduct or sponsor a collection of information unless it displays a current, valid OMB Control Number.

No person shall be subject to any penalty for failing to comply with a collection of information subject to the Paperwork Reduction Act that does not display a current, valid OMB Control Number. The OMB Control Number is 3060-0936.

The foregoing document is required by the Paperwork Reduction Act of 1995, Public Law 104-13, October 1, 1995, and 44 U.S.C. 3507.

The total annual reporting burdens and costs for the respondents are as follows:

OMB Control No.: 3060-0936.

OMB Approval Date: November 26, 2013.

OMB Expiration Date: November 30, 2016.

Title: Sections 95.1215, 95.1217, 95.1223 and 95.1225—Medical Device Radiocommunications Service (MedRadio).

Form No.: N/A.

Type of Review: Revision of a currently approved collection.

Respondents: Business or other for-profit and not-for-profit institutions.

Number of Respondents: 3,120 respondents; 3,120 responses.

Estimated Time per Response: 1-3 hours.

Frequency of Response: On occasion reporting requirement, third party disclosure requirement and recordkeeping requirement.

Obligation to Respond: Required to obtain or retain benefits. Statutory authority for this information collection is contained in 47 U.S.C. 151 and 303 of the Communications Act of 1934, as amended.

Total Annual Burden: 9,120 hours.

Total Annual Cost: $462,600.

Privacy Act Impact Assessment: N/A.

Nature and Extent of Confidentiality: No information is requested that would require assurance of confidentiality.

Needs and Uses: The Commission received approval from the Office of Management and Budget (OMB) to revise OMB 3060-0936 to reflect new and/or modified information collections as a result of a First Report and Order.

On May 24, 2012, the Commission released a Report and Order, ET Docket No. 08-59, FCC 12-54, titled: “Amendment of the Commission's rules to Provide Spectrum for the Operation of Medical Body Area Networks”, these rules revised the requirements for manufacturers of transmitters for the “Medical Device Radiocommunication Service” to include with each transmitting device a statement regarding harmful interference and to label the device in a conspicuous location on the device. The First Report and Order also adopted rules for “Medical Body Area Network” (MBAN), which requires the Commission to establish a process by which MBAN users will register and coordinate the use of certain medical devices. The frequency coordinator will make the database available to equipment manufacturers and the public. The coordinator will also notify users of potential frequency conflicts.

Federal Communications Commission.
Marlene H. Dortch,
Secretary, Office of the Secretary, Office of Managing Director.

[FR Doc. 2013-30649 Filed 12-26-13; 8:45 am]

BILLING CODE 6712-01-P